DEPARTMENT OF DEFENSE

Office of the Secretary

Charter Renewal of Department of Defense Federal Advisory Committees

AGENCY: Department of Defense.

ACTION: Renewal of Federal Advisory Committee.

SUMMARY: The Department of Defense is publishing this notice to announce that it is renewing the charter for the Advisory Committee on Industrial Security and Industrial Base Policy (“the Committee”).

FOR FURTHER INFORMATION CONTACT: Jim Freeman, Advisory Committee Management Officer for the Department of Defense, 703-692-5952.

SUPPLEMENTARY INFORMATION: The Committee's charter is being renewed pursuant to section 1647(a) of the National Defense Authorization Act for Fiscal Year 2017 (“the FY 2017 NDAA)” (Pub. L. 114-328) and in accordance with the Federal Advisory Committee Act (FACA) of 1972 (5 U.S.C., App) and 41 CFR 102-3.50(a). The Committee's charter and contact information for the Committee's Designated Federal Officer (DFO) can be found at https://www.facadatabase.gov/FACA/apex/FACAPublicAgencyNavigation.

The Committee, pursuant to section 1647(b) of the FY 2017 NDAA, provides the Secretary of Defense, independent advice and recommendations on matters relating to industrial security and industrial base policy. The Committee shall review and assess: a. The national industrial security program for cleared facilities and the protection of the information and networking systems of cleared defense contractors; b. policies and practices relating to physical security and installation access at installations of the Department of Defense (DoD); c. information security and cyber defense policies, practices, and reporting relating to the unclassified information and networking systems of defense contractors; d. policies, practices, regulations and reporting relating to industrial base issues; and e. any other matters the Secretary of Defense determines to be appropriate.

The Committee, pursuant to section 1647(c) of the FY 2017 NDAA, shall be composed of ten member of which five members shall be representatives of non-governmental entities and five members shall be representatives of departments or agencies of the Federal Government. These individuals will be experts in matters having to do with industrial security and industrial base policy. All Committee members are appointed to provide advice on behalf of the Government on the basis of their best judgment without representing any particular points of view and in a manner that is free from conflict of interest. Except for reimbursement of official Committee-related travel and per diem, Committee members serve without compensation.

The public or interested organizations may submit written statements to the Committee membership about the Committee's mission and functions. Written statements may be submitted at any time or in response to the stated agenda of planned meeting of the Committee. All written statements shall be submitted to the DFO for the Committee, and this individual will ensure that the written statements are provided to the membership for their consideration.

Dated: April 15, 2019.
Aaron T. Siegel,
Alternate OSD Federal Register Liaison Officer, Department of Defense.

[FR Doc. 2019-07845 Filed 4-18-19; 8:45 am]

BILLING CODE 5001-06-P